DEPARTMENT OF HEALTH AND HUMAN SERVICES

[Document Identifier OS-0955-New]

Agency Generic Information Collection Request; 30-Day Public Comment Request

AGENCY: Office of the Secretary, Health and Human Service, HHS.

ACTION: Notice.

SUMMARY: In compliance with the requirement of the Paperwork Reduction Act of 1995, the Office of the Secretary (OS), Department of Health and Human Services, is publishing the following summary of a proposed collection for public comment.

DATES: Comments on the ICR must be received on or before November 22, 2021.

ADDRESSES: Submit your comments to OIRA_submission@omb.eop.gov or via facsimile to (202) 395-5806.

FOR FURTHER INFORMATION CONTACT: Sherrette Funn, Sherrette.Funn@hhs.gov or (202) 795-7714. When requesting information, please include the document identifier 0955-New-30D and project title for reference.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collection: Access, Exchange and Use of Social Determinants of Health Data in Clinical Notes.

Type of Collection: New.

OMB No.: 0955-NEW—Office of the National Coordinator for Health Information Technology.

Abstract: The Department of Health and Human Services (HHS), Office of the Secretary, Office of the National Coordinator for Health Information Technology (ONC), promotes the access, exchange, and use of electronic health information to improve health care. There are ongoing efforts to determine what types of information should be recorded in patients' electronic medical records and how that information can be utilized to improve health and healthcare. Data reflecting Social Determinants of Health (SDOH)—the conditions in which people live, learn, work, and play—is limited across healthcare yet is vital to collect and understand for both individual care and public health. There is a growing recognition that by capturing and accessing SDOH data during the course of care, providers can more easily address non-clinical factors, such as food, housing, and transportation insecurities, which can have a profound impact on a person's overall health.

The 21st Century Cures Act (Cures Act) requires HHS and ONC to improve the interoperability of health information. ONC's Cures Act final rule identifies important data elements that should be made electronically available and exchanged through the use of health information technology (IT).

In support of these efforts, ONC seeks to better understand patients' and health care providers' knowledge of SDOH, how SDOH data are currently documented in the electronic health record and how this information is used in patient care. Additionally, ONC seeks to understand challenges experienced and preferences for SDOH data collection, sharing and utilization from both the provider and patient perspectives.

A series of 20 focus groups, a mix of asynchronous (discussion board) and synchronous (live), will be conducted among groups of healthcare professionals (10 groups) and patients/care partners (10 groups), representing various backgrounds, demographics, and healthcare professions, to learn more about their experiences and thoughts relating to the capture and utilization of SDOH data. A prescreening questionnaire will be sent to 1,500 individuals and 200 of those 1,500 people will be chosen to participate in the focus groups. Each individual will participate in one 90-minute focus group.

Estimated Annualized Burden Table
Form name | Type of respondent | Number of respondents | Number responses per respondent | Average burden per response (in hours) | Total burden hours
Prescreening Questionnaire (English) | Patients and Care Partners | 675 | 1 | 5/60 | 56
Prescreening Questionnaire (Spanish) | Patient and Care Partners (Spanish speakers) | 75 | 1 | 5/60 | 6
Prescreening Questionnaire | Clinicians and Healthcare Professionals | 750 | 1 | 5/60 | 63
Asynchronous Focus Group | Patients and Care Partners | 10 | 1 | 90/60 | 15
Synchronous Focus Group (English) | Patients and Care Partners | 80 | 1 | 90/60 | 120
Synchronous Focus Group (Spanish) | Patients and Care Partners (Spanish speakers) | 10 | 1 | 90/60 | 15
Asynchronous Focus Group | Clinicians and Healthcare Professionals | 90 | 1 | 90/60 | 135
Synchronous Focus Group | Clinicians and Healthcare Professionals | 10 | 1 | 90/60 | 15
Total |  | 1700 | 1 |  | 425

Sherrette A. Funn,
Paperwork Reduction Act Reports Clearance Officer, Office of the Secretary.

[FR Doc. 2021-22946 Filed 10-20-21; 8:45 am]

BILLING CODE 4150-45-P